DEPARTMENT OF TRANSPORTATION

Federal Aviation Administration

14 CFR Part 97

[Docket No. 31163; Amdt. No. 3773]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective November 20, 2017. The compliance date for each SIAP, associated Takeoff Minimums, and ODP is specified in the amendatory provisions.

The incorporation by reference of certain publications listed in the regulations is approved by the Director of the Federal Register as of November 20, 2017.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION:

This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC on November 3, 2017.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 7 December 2017

Cold Bay, AK, Cold Bay, RNAV (GPS) RWY 26, Amdt 3

Kotzebue, AK, Ralph Wien Memorial, ILS OR LOC RWY 9, Amdt 1

Kotzebue, AK, Ralph Wien Memorial, RNAV (GPS) RWY 9, Orig-B

Kotzebue, AK, Ralph Wien Memorial, RNAV (GPS) RWY 27, Orig-B

Kotzebue, AK, Ralph Wien Memorial, Takeoff Minimums and Obstacle DP, Amdt 1

Kotzebue, AK, Ralph Wien Memorial, VOR RWY 9, Orig-C

Kotzebue, AK, Ralph Wien Memorial, VOR RWY 27, Orig-A

Palmer, AK, Palmer Buddy Woods Muni, PALMER FOUR, Graphic DP

Russian Mission, AK, Russian Mission, RNAV (GPS) RWY 17, Orig-B

Russian Mission, AK, Russian Mission, RNAV (GPS) RWY 35, Orig-C

Sacramento, CA, Sacramento Intl, ILS OR LOC RWY 16L, Amdt 4

Sacramento, CA, Sacramento Intl, RNAV (GPS) Y RWY 16L, Amdt 3

Santa Ana, CA, John Wayne Airport-Orange County, ILS OR LOC RWY 20R, ILS RWY 20R (SA CAT I), Amdt 14

Santa Ana, CA, John Wayne Airport-Orange County, RNAV (GPS) Y RWY 20R, Amdt 3

Kahului, HI, Kahului, ILS OR LOC RWY 2, Amdt 25

Auburn/Lewiston, ME, Auburn/Lewiston Muni, ILS OR LOC RWY 4, Amdt 11

Auburn/Lewiston, ME, Auburn/Lewiston Muni, RNAV (GPS) RWY 4, Amdt 2

Traverse City, MI, Cherry Capital, RNAV (GPS) RWY 10, Amdt 2

Traverse City, MI, Cherry Capital, Takeoff Minimums and Obstacle DP, Amdt 12

Faribault, MN, Faribault Muni-Liz Wall Strohfus Field, Takeoff Minimums and Obstacle DP, Amdt 1

Gulfport, MS, Gulfport-Biloxi Intl, ILS Z OR LOC Z RWY 14, ILS Z RWY 14 (SA CAT II), Amdt 15

Gulfport, MS, Gulfport-Biloxi Intl, ILS Z OR LOC Z RWY 32, Amdt 5

Gulfport, MS, Gulfport-Biloxi Intl, RADAR-1, Amdt 7

Gulfport, MS, Gulfport-Biloxi Intl, RNAV (GPS) RWY 14, Amdt 2

Gulfport, MS, Gulfport-Biloxi Intl, RNAV (GPS) RWY 18, Amdt 2

Gulfport, MS, Gulfport-Biloxi Intl, RNAV (GPS) RWY 32, Amdt 2

Gulfport, MS, Gulfport-Biloxi Intl, RNAV (GPS) RWY 36, Amdt 2

Gulfport, MS, Gulfport-Biloxi Intl, VOR Y RWY 14, Amdt 22A

Gulfport, MS, Gulfport-Biloxi Intl, VOR Y RWY 32, Amdt 21C

Gulfport, MS, Gulfport-Biloxi Intl, VOR Z RWY 32, Amdt 5

Gulfport, MS, Gulfport-Biloxi Intl, VOR Z OR TACAN Z RWY 14, Amdt 4

Butte, MT, Bert Mooney, ILS OR LOC RWY 15, Orig

Butte, MT, Bert Mooney, ILS Y RWY 15, Amdt 7A, CANCELED

Butte, MT, Bert Mooney, LOC/DME RWY 15, Amdt 7A, CANCELED

Butte, MT, Bert Mooney, RNAV (GPS) RWY 15, Orig

Butte, MT, Bert Mooney, RNAV (GPS) Y RWY 15, Orig-A, CANCELED

Butte, MT, Bert Mooney, RNAV (GPS) Z RWY 15, Amdt 1B, CANCELED

Butte, MT, Bert Mooney, Takeoff Minimums and Obstacle DP, Amdt 6

Butte, MT, Bert Mooney, VOR-A, Orig

Butte, MT, Bert Mooney, VOR OR GPS-B, Amdt 1B, CANCELED

Canandaigua, NY, Canandaigua, RNAV (GPS) RWY 13, Amdt 2A

Canandaigua, NY, Canandaigua, RNAV (GPS) RWY 31, Amdt 1B

Canandaigua, NY, Canandaigua, VOR-A, Orig-B

New York, NY, Laguardia, COPTER ILS OR LOC RWY 22, Amdt 3

New York, NY, Laguardia, ILS OR LOC RWY 4, Amdt 37

New York, NY, Laguardia, ILS OR LOC RWY 13, Amdt 2

New York, NY, Laguardia, ILS OR LOC RWY 22, ILS RWY 22 (SA CAT I), ILS RWY 22 (SA CAT II), Amdt 21

New York, NY, Laguardia, RNAV (GPS) Y RWY 22, Amdt 2C

New York, NY, Laguardia, RNAV (RNP) Z RWY 22, Orig-D

Eugene, OR, Mahlon Sweet Field, ILS OR LOC RWY 16L, Amdt 2

Eugene, OR, Mahlon Sweet Field, ILS OR LOC RWY 16R, ILS RWY 16R (SA CAT I), ILS RWY 16R (CAT II), ILS RWY 16R (CAT III), Amdt 38

Eugene, OR, Mahlon Sweet Field, RNAV (GPS) Y RWY 16L, Amdt 3

Eugene, OR, Mahlon Sweet Field, RNAV (GPS) Y RWY 16R, Amdt 2

Eugene, OR, Mahlon Sweet Field, RNAV (GPS) Y RWY 34L, Amdt 3

Eugene, OR, Mahlon Sweet Field, RNAV (GPS) Y RWY 34R, Amdt 3

Eugene, OR, Mahlon Sweet Field, RNAV (RNP) Z RWY 16L, Amdt 1

Eugene, OR, Mahlon Sweet Field, RNAV (RNP) Z RWY 16R, Amdt 1

Eugene, OR, Mahlon Sweet Field, RNAV (RNP) Z RWY 34L, Amdt 1

Eugene, OR, Mahlon Sweet Field, RNAV (RNP) Z RWY 34R, Amdt 1

Ontario, OR, Ontario Muni, NDB RWY 33, Amdt 6

Ontario, OR, Ontario Muni, RNAV (GPS) RWY 15, Amdt 1

Ontario, OR, Ontario Muni, RNAV (GPS) RWY 33, Amdt 1

Ontario, OR, Ontario Muni, Takeoff Minimums and Obstacle DP, Amdt 5

Rosebud, SD, Rosebud Sioux Tribal, RNAV (GPS) RWY 34, Orig

Rosebud, SD, Rosebud Sioux Tribal, Takeoff Minimums and Obstacle DP, Orig

Sioux Falls, SD, Joe Foss Field, RNAV (GPS) RWY 21, Amdt 2

Sioux Falls, SD, Joe Foss Field, RNAV (GPS) RWY 33, Amdt 2

Wessington Springs, SD, Wessington Springs, RNAV (GPS) RWY 12, Orig

Wessington Springs, SD, Wessington Springs, RNAV (GPS) RWY 30, Orig

Wessington Springs, SD, Wessington Springs, Takeoff Minimums and Obstacle DP, Orig

Bristol/Johnson/Kingsport, TN, Tri-Cities, ILS OR LOC RWY 5, Amdt 3C

Bristol/Johnson/Kingsport, TN, Tri-Cities, ILS OR LOC RWY 23, ILS RWY 23 (SA CAT I), ILS RWY 23 (CAT II), Amdt 24G

Bristol/Johnson/Kingsport, TN, Tri-Cities, RNAV (GPS) RWY 5, Amdt 1C

Bristol/Johnson/Kingsport, TN, Tri-Cities, RNAV (GPS) RWY 23, Amdt 1C

Bristol/Johnson/Kingsport, TN, Tri-Cities, RNAV (GPS) RWY 27, Amdt 1A

Vernal, UT, Vernal Rgnl, RNAV (GPS) RWY 34, Amdt 1C, CANCELED

Vernal, UT, Vernal Rgnl, VOR RWY 34, Amdt 8A, CANCELED

Everett, WA, Snohomish County (Paine Fld), ILS Y OR LOC Y RWY 16R, Amdt 23

Everett, WA, Snohomish County (Paine Fld), ILS Z OR LOC Z RWY 16R, ILS Z RWY 16R (SA CAT II), Amdt 1

Everett, WA, Snohomish County (Paine Fld), RNAV (GPS) RWY 34L, Amdt 3

Everett, WA, Snohomish County (Paine Fld), RNAV (GPS) Y RWY 16R, Amdt 2

Everett, WA, Snohomish County (Paine Fld), RNAV (GPS) Z RWY 16R, Amdt 1

Everett, WA, Snohomish County (Paine Fld), VOR-A, Orig

Everett, WA, Snohomish County (Paine Fld), VOR/DME RWY 16R, Orig-A, CANCELED

RESCINDED: On October 19, 2017 (82 FR 48611), the FAA published an Amendment in Docket No. 31157, Amdt No. 3767 to Part 97 of the Federal Aviation Regulations under section 97.23, 97.29, 97.33, 97.37. The following entries for Sacramento, CA, West Palm Beach, FL, and Norfolk, VA, effective December 7, 2017, are hereby rescinded in their entirety:

Sacramento, CA, Sacramento Intl, ILS OR LOC RWY 34L, Amdt 7F

West Palm Beach, FL, North Palm Beach County General Aviation, ILS OR LOC RWY 9R, Amdt 2

West Palm Beach, FL, North Palm Beach County General Aviation, RNAV (GPS) RWY 9R, Amdt 2

West Palm Beach, FL, North Palm Beach County General Aviation, RNAV (GPS) RWY 14, Amdt 1

West Palm Beach, FL, North Palm Beach County General Aviation, RNAV (GPS) RWY 27L, Amdt 2

West Palm Beach, FL, North Palm Beach County General Aviation, Takeoff Minimums and Obstacle DP, Amdt 1

West Palm Beach, FL, North Palm Beach County General Aviation, VOR RWY 9R, Amdt 2

Norfolk, VA, Norfolk Intl, ILS OR LOC RWY 23, Amdt 8

Norfolk, VA, Norfolk Intl, RNAV (GPS) RWY 14, Amdt 1

Norfolk, VA, Norfolk Intl, VOR RWY 14, Amdt 3

[FR Doc. 2017-24999 Filed 11-17-17; 8:45 am]

BILLING CODE 4910-13-P